DEPARTMENT OF HEALTH AND HUMAN SERVICES

Program Support Center; Statement of Organization, Functions, and Delegations of Authority

Part P, Program Support Center (PSC) Statement of Organization, Functions and Delegations of authority for the Department of Health and Human Services (HHS) (66 FR 31240-41, October 2, 1995, and as last amended 66 FR 58740-41, November 23, 2001) is being amended to reflect a change in the reporting relationship of the head of the Program Support Center, within HHS. The changes are as follows:

I. Under Chapter P, Paragraph P.10 Organization, replace with the following:

P.10 Organization. The Program Support Center (PSC) is a component within HHS to provide a wide range of support and administrative services to HHS components and other Federal agencies. The head of the PSC shall report to the Assistant Secretary for Administration and Management (AJ).

II. Under Paragraph P.20 Functions, paragraph A. “Office of the Director,” replace with the following:

A. Immediate Office of the PSC (PA). The Office functions include (1) providing leadership for the implementation of the PSC responsibilities in accomplishing its mission; (2) providing staff support to the head of the PSC; (3) developing customer service strategic and marketing plans; and (4) coordinating publication of reports to HHS management, customers and employees.

Dated: July 23, 2002.
Ed Sontag,
Assistant Secretary for Administration and Management.

[FR Doc. 02-19389 Filed 7-31-02; 8:45 am]

BILLING CODE 4168-17-M